DEPARTMENT OF HEALTH AND HUMAN SERVICES

Health Resources and Services Administration

Statement of Organization, Functions and Delegations of Authority; Correction

AGENCY: Health Resources and Services Administration, HHS.

ACTION: Notice; correction.

SUMMARY: The Health Resources and Services Administration published a document in the Federal Register on August 11, 2006, concerning changes to the organization and functions of the Office of the Administrator (RA) and the HIV/AIDS Bureau (RV). The document omitted information regarding movement of the Center for Quality and also erroneously included the Telehealth function within the HIV/AIDS Bureau, which was moved to the Office of Health Information Technology (RT) on 12/27/05 (70 FR 76463-76465).

FOR FURTHER INFORMATION CONTACT: Wendy Ponton, Director, Division of Management Services, Office of Administration and Financial Management, Health Resources and Services Administration, 5600 Fishers Lane, Room 14A-08, Rockville, Maryland 20857; telephone: 301-443-0201.

Correction

In the Federal Register issue of August 11, 2006, in FR Doc. E6-13216, on page 46237, in the second column, correct the second paragraph in the Statement of Organization, Functions and Delegations of Authority section to read: This notice reflects changes to the organization and functions of the Office of the Administrator (RA) and the HIV/AIDS Bureau (RV). Specifically, it moves the Center for Quality function from the HIV/AIDS Bureau to the Office of the Administrator.

On page 46237, in the third column, under Section RV-20, Functions, delete item (10), and renumber list accordingly.

Dated: August 30, 2006.
Elizabeth M. Duke,
Administrator.

[FR Doc. E6-14748 Filed 9-5-06; 8:45 am]

BILLING CODE 4165-15-P